DEPARTMENT OF JUSTICE

Antitrust Division

Notice Pursuant to the National Cooperative Research and Production Act of 1993—Marine Well Containment Venture

Notice is hereby given that, on March 04, 2011, pursuant to Section 6(a) of the National Cooperative Research and Production Act of 1993, 15 U.S.C. 4301 et seq. (“the Act”), Marine Well Containment Venture (“MWCV”) has filed written notifications simultaneously with the Attorney General and the Federal Trade Commission disclosing changes in its membership, nature and objectives. The notifications were filed for the purpose of extending the Act's provisions limiting the recovery of antitrust plaintiffs to actual damages under specified circumstances. Specifically, BP Offshore Response Company LLC, Houston, TX, has been added as a party to this venture. The changes in its nature and objectives are: (1) In furtherance of the venture's previously-disclosed objectives, the previously-disclosed parties to MWCV have formed Marine Well Containment Company LLC (“MWCC LLC”), a Delaware limited liability company located in Houston, TX; and (2) in furtherance of the venture's previously-disclosed objectives, MWCC LLC and the parties to MWCV have entered into a System Development Agreement.

No other changes have been made in either the membership or planned activity of the venture. The composition of members in this venture may change, and MWCV intends to file additional written notifications disclosing all changes in membership.

On August 18, 2010, MWCV filed its original notification pursuant to Section 6(a) of the Act. The Department of Justice published a notice in the Federal Register pursuant to Section 6(b) of the Act on October 12, 2010 (75 FR 62570).

The last notification was filed with the Department on September 29, 2010. A notice was published in the Federal Register pursuant to Section 6(b) of the Act November 15, 2010 (75 FR 69705).

Patricia A. Brink,
Director of Civil Enforcement, Antitrust Division.

[FR Doc. 2011-11455 Filed 5-10-11; 8:45 am]

BILLING CODE 4410-11-M